DEPARTMENT OF THE INTERIOR

National Park Service

Glen Echo Park, Montgomery County, MD

Action: Record of Decision.

I. Introduction

The Department of the Interior, National Park Service (NPS), has prepared this Record of Decision on the Final Management Plan/Environmental Impact Statement (FMP/EIS) for Glen Echo Park, Montgomery County, Maryland pursuant to the National Environmental Policy Act (NEPA) and Council of Environmental Quality (CEQ) regulations. This Record of Decision is a statement of the decision made, the background of the project, other alternatives considered, the basis for the decision, the environmentally preferable alternative, measures to minimize environmental harm, and public involvement in the decision making process.

II. Background of the Project

For over a century, Glen Echo Park has served the region as a center for education, entertainment and cultural development. This special site, which has been a National Chautauqua site (1891), an amusement park site (1899-1968), and an arts and cultural park (1971-present), is 1.5 miles northwest of Washington, DC and has been a haven for generations of area residents and visitors. On April 1, 1970 GSA received title to the 9.3-acre site. The site was acquired through a land exchange for the Old Emergency Hospital at 1711 New York Ave., NW., Washington, DC and was held surplus by the General Services Administration (GSA). From 1971-1976, the National Park Service (NPS) operated the park in cooperation with GSA and the park officially became part of NPS in 1976. When the land was acquired it contained a number of structures that were in very poor condition. Several were removed and others received minimal repair. From the very beginning, the NPS recognized the need to establish a Public/Private Partnership to both rehabilitate the structures and establish a creative education program that would reflect the spirit of the Chautauqua Assembly. In 1984, an NPS approved Management Facilities Program outlined a five-year program incorporating short and long-term goals and a scope of work for projects to be funded by the Federal government and private sector. Unfortunately, funds from both groups were limited, improvements were minor, and park management began to consider historic leasing. Local citizen opposition to such a proposal led to the formation of the Glen Echo Park Foundation, which was established in May 1987 to raise $3 million within five years for rehabilitation of the structures. The Foundation was unsuccessful in achieving its goal, and the park structures have continued to deteriorate.

By the mid-1990s, funding to rehabilitate decaying park structures was still not available and the park's resources were in danger of being lost. The National Park Service began a process through which a Management Plan (MP) could be developed. As part of that process, the NPS examined options for future operation of the park, including scenarios that assumed existing park resources would eventually be lost. Since the planning process began, Montgomery County, the State of Maryland, and the Federal government have all committed funding to support the stabilization and rehabilitation of the structures at Glen Echo Park. This funding, however, does not support improvements to the interior of the buildings, and does not help cover the park's operating expenses. Furthermore, as the structures continue to age, the maintenance needs of the park will continue to grow. A management plan for Glen Echo Park is needed to provide a framework for the continued management and operation of the park.

III. Decision (Selected Action)

The National Park Service will implement the preferred alternative, the Modified Public Partnership, identified in the FMP/EIS issued on March 9, 2001. Figure I illustrates the chosen management structure. Figure II illustrates the selected management zones for the park. The selected alternative is also the environmentally preferred alternative identified in the FMP/EIS. It will improve the visitor experience, maintain the traditional uses of the park, improve the diversity in its programs, and enhance the preservation of cultural and historic resources through an improved revenue structure. It is expected to create only minor environmental impacts and inconveniences to adjoining communities. As a part of this decision, the NPS will also implement measures to minimize adverse impacts to the environment (i.e. mitigations) (see VIII below).

The NPS has used public partnership arrangements very successfully at several parks. Based on this experience, along with the analysis of the potential environmental impacts contained within the FMP/EIS, the NPS believes the Modified Public Partnership alternative is the best arrangement for the park, the surrounding communities, and the park's users. Under the selected alternative, the NPS will enter into negotiations with Montgomery County, MD, to prepare a long-term agreement whereby Montgomery County would take over the majority of management and operations at Glen Echo Park. If the NPS and Montgomery County were unable to finalize an agreement, the NPS would seek another similar partner with which to negotiate an agreement. Under the agreement, it is anticipated that Montgomery County would create a non-profit organization or other such entity to carry out its responsibilities. It is also anticipated that such an organization would have a Board of Directors (or other similar Board) that would have the responsibilities of managing and operating the park on a daily basis, and carrying out fundraising activities. [Hereafter, when the term “Board” is used, it is meant to include Montgomery County (or other party who enters into agreement with the NPS), and any such management body or structure, such as a non-profit corporation) that is used to carry out the terms of the agreement.]

Under the selected alternative, the Board would be responsible for ensuring all actions are consistent with Federal policies, NPS guidelines, and the terms of the agreement. The Board and the NPS would share day-to-day building and grounds maintenance responsibilities, with a limit on the NPS share to be specified in the cooperative agreement. The Board would be responsible for all life-cycle maintenance. It would also be responsible for custodial services in the common areas and non-lease space, negotiating and managing leases or agreements with cooperators, and carrying out other management tasks. Under this plan, all existing agreements between the NPS and the current cooperators would be terminated. The Board would negotiate new long-term agreements with cooperators and develop programs and activities consistent with park goals.

The NPS will continue to provide information and interpretive services for the park, some maintenance, ensure public safety, administer any NPS concession agreements, provide overall protection of the park's resources, and ensure compliance with the terms of the agreement. An operations and maintenance plan is to be a part of the agreement to ensure operations and maintenance meet NPS standards. Existing permits between the NPS and entities such as Potomac Electric and Power Company (PEPCO), the U.S. Army Corps of Engineers, and concessionaires will remain vested in the NPS, and will be renewed as needed.

It is anticipated that the new structure for generating park revenue for operational expenses will be based on a resident cooperator's gross annual revenue, or the gross annual receipts of a non-resident user (e.g., social dancers). This structure is very similar to the existing method of park collections; however, revisions are necessary to increase revenue to the park and to make the system of collections more equitable for all park users. Final details of the park's collection structure will be determined by the Board of Directors and the new Executive Director.

Under the selected alternative, utilization is anticipated to increase slightly because of the renovation of existing park spaces, adding additional spaces, and increased marketing efforts. The Executive Director and staff will work with resident and non-resident cooperators and other park users to maximize attendance at existing events and to add activities during non-peak times. In addition, the Spanish Ballroom will be available for short-term rental and will continue to support the social dances.

In the short term, structures within the park will be stabilized and rehabilitated according to the provisions of the ongoing rehabilitation plan. All structures that are non-contributing structures to the historic district could potentially be removed as deemed appropriate by the Board and when approved by the NPS. Any new development at the park will be permitted provided it is consistent with the park's management zoning map and park mission goals, and as long as the total development area does not exceed 40% of the total park area. The NPS has approval authority over any new development and the responsibility to prepare appropriate natural and cultural resource compliance documentation for any new development.

Under the selected alternative, the Board of Directors will be responsible for fundraising subject to the provisions of its agreement with the NPS. Montgomery County plans to provide a $100,000 subsidy for the first four years of operation to the Board.

IV. Other Alternatives Considered

Four other alternatives were considered in the FMP/EIS. These can be characterized as follows:

A. No Action Alternative

The No Action Alternative proposes that the NPS would manage and operate Glen Echo park at current levels of service. An NPS site manager would manage both Glen Echo Park and the Clara Barton National Historic Site (NHS). Under this alternative, no changes would be made in the management of park resources, the provision of visitor services, or the upkeep of facilities. Limited funding for park staff would constrain the time available for staff to organize and promote park programs and events, thereby limiting implementation of the park's mission goals.

Under the No Action Alternative, the NPS would negotiate three-year contracts with the cooperators (resident and non-resident artists) that would be structured similarly to the existing contracts. The structure for collecting fees from resident cooperators and other park users also would be similar to the existing system. Resident cooperators would reimburse the park for the use of space and providing services by: contributing a small percentage of their gross annual revenues; paying a fee for each student enrolled in classes, workshops, and camps; and setting aside a fixed amount of each ticket sale. Constraints on other revenue generating methods would prohibit increasing the funding base. A fundraising organization would be associated with this alternative but would face the same challenge as the current organization in raising funds.

NPS would remain responsible for most maintenance efforts under the No Action Alternative. Building maintenance would be the responsibility of the NPS except for the interior leased areas that would be the responsibility of the cooperators. Grounds maintenance and custodial services for common areas and non-leased spaces would also be the responsibility of the NPS. Custodial service for leased spaces would be the responsibility of the tenant. Lifecycle maintenance would be the responsibility of NPS.

Beyond the physical improvements to park structures undertaken during the stabilization/rehabilitation effort, park resources would be maintained at a minimal level. Additional short-term changes would be limited to interior tenant fit-outs in renovated spaces at the cooperator's own expense. The level of maintenance the NPS could provide would depend on available funds that, under this alternative, are not anticipated to increase. Available funding from the Federal government would restrict long-term projects. It is anticipated that, eventually, park structures would require major capital improvement that the NPS would not be able to finance. It is possible some facilities would be closed and eventually removed and it is unlikely that additional new construction would take place.

B. NPS Management Alternative

The NPS Management Alternative proposes that the NPS would actively manage and operate Glen Echo Park at a somewhat higher level of service than the existing condition. An NPS site manager would manage both Glen Echo Park and the Clara Barton NHS. The NPS would modify current staffing at the park by adding a marketing specialist, clerical/bookkeeping position, and adjusting maintenance staff assignments. The NPS would continue to work with the individuals and organizations offering classes and activities at the park, to produce class schedules and maintain class rosters, and to promote park's activities.

Under the NPS Management Alternative, the resident cooperators would assume a greater degree of responsibility for park operations than they currently possess. They would be responsible for the interior maintenance of leased spaces. New contracts would be negotiated and a new system for collecting fees from resident cooperators and short-term users would be implemented. These fees would vary slightly based on the type of activity offered, but would include space leases, short-term rental fees, and collecting a portion of program fees or ticket sales. The NPS and the individuals would negotiate new contracts that would reinforce the new management and operations structure of the park. Restrictions placed on use of these funds by regulations or policy may limit the effective use of the revenue generated.

NPS would remain responsible for most maintenance efforts, under the NPS Management Alternative. Building maintenance would be the responsibility of the NPS except for the interior leased areas that would be the responsibility of the cooperators. Grounds maintenance and custodial services for common areas and non-leased spaces would also be the responsibility of the NPS. Custodial service for leased spaces would be the responsibility of the tenant. Lifecycle maintenance would be the responsibility of NPS.

Under the NPS Management Alternative, little physical change is anticipated beyond the stabilization/rehabilitation effort. Additional short-term changes would be limited to tenant fit-outs in renovated spaces. Long-term projects primarily would be restricted to replacing the maintenance shed, building a small storage facility, redeveloping the Crystal Pool Plaza, and reconstructing the second floor of the Caretaker's Cottage. A fundraising organization is also proposed for this alternative. It would face the same challenges of the current organization under the No Action Alternative.

C. Public Partnership Alternative

This alternative is the same as the selected alternative, except in this alternative the NPS would be responsible for life-cycle maintenance costs. Life-cycle maintenance is unscheduled and non-routine improvements to a facility that extends its use and improves its condition over the years that it is in use. Examples of life-cycle maintenance are replacing roofs, electrical and mechanical systems, and plumbing, etc.

D. Non-Profit Partnership Alternative

The Non-Profit Partnership proposes a non-profit entity, such as a private individual, cooperating association, or other non-profit organization manage and operate Glen Echo Park. The NPS potentially could be involved in some aspects of park operations; however, the Non-Profit Partner would reimburse the NPS for their assistance. The NPS would have oversight over the actions of the Non-Profit Partner to ensure compliance with Federal policies and regulations and the agreement. The NPS mission-based activities, such as interpretation and law enforcement, would continue.

Under the Non-Profit Partnership, all of the existing agreements between NPS and the cooperators would be terminated. The Non-Profit Partner would negotiate agreements with artists, performers, and other resident and non-resident park users for performances and events and be responsible for the implementation of the park's mission goals.

The structure for generating park revenue under the Non-Profit Partnership establishes a consistent monthly base fee for all resident cooperators, and regular user groups, such as the social dancers, throughout the region. All revenue generated under this alternative would be consistent with the rules and regulations governing the type of partnership, i.e., cooperating association, cooperative agreements. This system creates an incentive for park users to achieve a particular level of utilization (i.e., number of students enrolled, number of classes offered, number of attendees) necessary to cover costs. As a result, overall park utilization is anticipated to increase under this alternative.

Under the Non-Profit Partnership, the renovation of park structures, creation of additional space, and increased marketing efforts would also contribute to increased utilization. The Non-Profit Partner would likely work with the resident and non-resident cooperators and other park users to maximize attendance at existing events and to add activities during non-peak times.

Building maintenance and life cycle costs would be the responsibility of Non-Profit Partner except for the interior leased areas that would be the responsibility of the cooperators. Grounds maintenance and custodial services for the common areas would be the responsibility of Non-Profit Partner. The Non-Profit might be required to reimburse Montgomery County and the State of Maryland for their $12 million investment in the rehabilitation of structures. If this were to occur the Non-Profit Partner would be unable to generate sufficient revenues to reimburse the state and local governments. The Non-Profit Partner would also conduct fundraising to supplement park income.

In the short term, structures within the park would be stabilized and rehabilitated according to the provisions of the rehabilitation plan. Under this alternative, all structures that are non-contributing structures to the historic district potentially could be removed as deemed appropriate by the Non-Profit Partner and when approved by the NPS. New development at the park would be permitted, provided it is consistent with the park's management zoning map and park mission goals, and as long as the total development area does not exceed 40% of the total park area. The NPS would have approval authority for any new development and would prepare appropriate natural and cultural resource compliance documentation.

V. Basis for Decision

After careful consideration of public comments received throughout the planning process, including comments on the Draft Management Plan/Environmental Impact Statement, the Modified Public Partnership Alternative has been selected by the National Park Service. This alternative will best preserve the valuable cultural and environmental resources at Glen Echo Park while continuing the park's mission as a cultural and educational center in the region.

The No-Action Alternative eventually would result in the deterioration or loss of significant cultural and historic resources. Under this alternative, no changes would be made in the management of park resources, the provision of visitor services, or the upkeep of facilities. Limited funding for park staff would constrain the time available for staff to organize and promote park programs and events or perform needed maintenance.

All of the alternatives have some adverse environmental impacts, as identified in the FMP/EIS. The No Action alternative has the least impact on the natural environment and the surrounding area due to the smaller number of visitors anticipated. However, it has by far the greatest impact to cultural and historic resources. The other alternatives have slightly higher impacts to the natural environmental, but each is considered environmentally acceptable and not likely to cause substantial adverse impacts. However, the other alternatives do vary substantially in terms of their impacts to socio-economic and cultural resources.

In the NPS Management Alternative, there is some risk that cultural resources would deteriorate because all management responsibilities are placed on one public entity. Dependent upon Federal funding, the NPS may not be able to support necessary physical improvements. Consequently, a negative impact on cultural resources could result. Already, inadequate rehabilitation funding has caused the deterioration of resources, such as the Arcade Building. Although the NPS Management Alternative would ensure that the park's resources are protected, an increasing need for rehabilitation funding makes dependence on Federal funding risky.

The Non-Profit Partnership Alternative also presents significant risk to the protection of Glen Echo Park. Although the alternative would likely lead to the greatest increase of park utilization, there is considerable risk that the increased activity would lead to adverse impacts on the park's natural and cultural resources and on the surrounding community. The Non-Profit Partnership would be the least likely of the alternatives to mitigate impacts, such as traffic and parking from increased visitation, or to invest in long-term lifecycle maintenance improvements. Additionally, it is possible that the diversity of users would decline in this alternative as programming decisions prioritize those events with the greatest potential for positive economic returns over those that serve the public's interest. The potential for paying back the State and County governments for rehabilitation costs may also contribute to the decline of cultural resources and a diversity of uses.

The Public Partnership and the Modified Public Partnership offer distinct advantages over the other alternatives. By engaging local government in the management of the park, these alternatives should result in the greatest diversity of users and programs while protecting the park's resources. In addition, if a non-profit entity is used it can actively fundraise to supplement the park operations. Mitigation of transportation impacts is most likely under these alternatives because of the partnership between the two governments. Additional funding from Montgomery County for the first four years would also assist in the start-up of the management and operations.

The only difference between the Public Partnership and Modified Public Partnership is the responsibility of lifecycle maintenance costs. The Modified Public Partnership Alternative assumes the costs are the Board of Director's responsibility while the Public Partnership Alternative assumes major NPS responsibility. Since resource protection is more likely to occur if the park is not totally dependent upon Federal funding, the Modified Public Partnership Alternative has an advantage over the Public Partnership Alternative. Financial projections have also shown that the Modified Public Partnership could assume these costs over time without adversely affecting its financial status.

Given these facts and the finding that the Modified Public Partnership Alternative is also the “environmentally preferable” alternative (see VIII below), the National Park Service has therefore selected the Modified Public Partnership Alternative to implement. The selected alternative will improve the visitor experience, maintain the traditional uses of the park, improve the diversity in its programs, and enhance the preservation of cultural and historic resources through an improved revenue structure, with only minor environmental impacts and inconveniences to adjoining communities.

VI. Findings on Impairment of Park Resources and Values

The National Park Service has determined that the implementation of the Modified Public Partnership Alternative will not constitute impairment to Glen Echo Park's resources and values. This conclusion is based on a thorough analysis of the environmental impacts described in the FMP/EIS, the public comments received, and the application of the provisions in NPS Management Policies 2001. While the plan has some minor negative impacts, these impacts only result from actions to preserve and restore other park resources and values. Overall, the Final Management Plan results in major benefits to park resources and values, opportunities for their enjoyment, and does not result in their impairment.

In determining whether impairment may occur, park managers consider the duration, severity, and magnitude of the impact; the resources and values affected; and direct, indirect, and cumulative effects of the action. According to National Park Service Policy, “An impact would be more likely to constitute an impairment to the extent that it affects a resource or value whose conservation is: (a) Necessary to fulfill specific purposes identified in the establishing legislation or proclamation of the park; (b) Key to the natural or cultural integrity of the park or to opportunities for enjoyment of the park; or (c) Identified as a goal in the park's general management plan or other relevant National Park Service planning documents.” (Director's Order 55)

This policy does not prohibit impacts to park resources and values. The National Park Service has the discretion to allow impacts to park resources and values when necessary and appropriate to fulfill the purposes of a park, so long as the impacts do not constitute impairment. Moreover, an impact is less likely to constitute impairment if it is an unavoidable result of an action necessary to preserve or restore the integrity of park resources or values.

The actions comprising the Modified Public Partnership Alternative will achieve the goals of the Final Management Plan in a comprehensive, integrated manner that takes into account the interplay between resource protection and visitor use. Actions implemented under the selected alternative that will cause overall negligible adverse impacts, minor adverse impacts, short-term impacts, and beneficial impacts to park resources and values, as described in the Final MP/EIS will not constitute impairment. This is because these impacts have limited severity and/or duration and will not result in appreciable irreversible commitments of resources. Beneficial impacts identified in the Final MP/EIS include effects related to restoring and protecting park resources and values. Thus, the National Park Service has determined that the implementation of the Modified Public Partnership Alternative will not result in any impairment of resources and values at Glen Echo Park.

VII. Environmentally Preferable Alternative

The environmentally preferable alternative is defined as “ the alternative that will promote the National environmental policy as expressed in the National Environmental Policy Act's Section 101. Ordinarily, this means the alternative that causes the least damage to the biological and physical environment; it also means the alternative which best protects, preserves, and enhances historic, cultural, and natural resources'' (“Forty Most Asked Questions Concerning Council on Environmental Quality's (CEQ) National Environmental Policy Act Regulations,” 1981). As indicated above, the selected alternative should result in the greatest diversity of users and programs while protecting the park's mission as a public resource. Further resource protection is most likely to occur under the selected alternative. Thus, the environmentally preferred alternative has been determined to be the Modified Public Partnership Alternative.

VIII. Measures To Minimize Environmental Harm

Measures to avoid or minimize environmental impacts that could result from the implementation of the selected alternative have been identified and incorporated into the selected action. These mitigation measures are presented in detail in the FMP/EIS. Mitigation measures are summarized by category below. Note: Where “NPS” is used in this section it is intended to mean either the NPS, the board, or agents of these, as appropriate.

A. Physical/Biological Resources:

• Surface Hydrology: The NPS will require an erosion and sedimentation control plan prior to any new construction activities at the park. This will minimize adverse effects to the park and surrounding areas. This plan will include measures to reduce or eliminate erosion of cleared areas and the transport of soil and sediment in surface runoff to drainage areas. This plan will also address measures to control stormwater runoff and prevent the discharge of pollutants into the storm sewer system.

• Vegetation and Wildlife: Prior to the construction of any new park structures not addressed in the FMP/EIS appropriate studies of potentially impacted vegetation and wildlife will be conducted. Mitigation for any loss of vegetation and wildlife associated with the proposed development would need to be approved by the NPS.

• Hazardous Materials: The park will continue to implement the NPS lead-based paint action plan. As a part of this plan, if future actions at the park require soil-disturbing activities, the NPS will identify and remedy any lead based paint issues associated with such activities. The NPS will also continue to be responsible for managing wastes with hazardous materials at Glen Echo Park and will not be able to transfer that responsibility to another management entity.

• Noise: All special events will comply with the NPS regulations regarding auditory disturbances or Montgomery County Guidelines, whichever are more stringent.

B. Socio-Cultural Resources

• Land Use: Construction of future park structures will occur only in the appropriate development areas as delineated in the park's management zoning diagram (Figure II). Once Bowdoin Avenue is relocated, the NPS will also allow public use of the land immediately west of the relocated Bowdoin Avenue.

• Historic Resources: The NPS will continue to consult with the Maryland State Historic Preservation Office on all activities that have the potential to affect the historic district. Demolition of historic structures contributing to the Glen Echo Park Historic District is not anticipated under the selected alternative. Demolition of any non-contributing structures within the district will need to be approved by the NPS, and will be subject to the requirements of the National Historic Preservation Act Section 106 process.

• Archaeological Resources: In the event of new construction, the NPS will undertake a survey to determine the likelihood of archaeological remains on the project site.

• Visual Resources: Any proposal for new development will be required to demonstrate that it would not adversely affect the existing visual environment of Glen Echo Park or infringe on the natural visual condition of the Potomac Palisades.

C. Transportation

• Signage: During events, the NPS will improve temporary signs leading visitors to remote and on-site parking to mitigate traffic congestion. The signs will have the standard white lettering on a brown background to further identify it with the park. Messages will indicate whether the on-site parking area is full and will include the appropriate direction to the remote parking area. Signs will be placed well in advance of the decision-making point at locations such as: MacArthur Boulevard southeast of the Sangamore Road intersection; MacArthur Boulevard northwest of the single lane bridge; Clara Barton Parkway Access Road south of the MacArthur Boulevard intersection; Goldsboro Road west of the Massachusetts Avenue intersection; Massachusetts Avenue southeast of the Sangamore Road intersection; and two signs at the intersection of MacArthur Boulevard and Goldsboro Road. These signs will be equipped with a hinged panel stating “Lot Full,” which will indicate that the on-site parking area has reached capacity, and thereby direct motorists to a remote lot.

The NPS will also install permanent park directional signs on River Road and Wilson Lane to help redirect some park traffic to these routes. This should help disperse the traffic demand on the routes in the immediate vicinity of the park. Permanent signs will also be provided to direct visitors from the public transit bus stop(s).

Transit and Transportation Demand Management (TDM) strategies: The NPS will consult with Montgomery County and the Washington Metropolitan Transit Authority to improve Ride-On and Metrobus programs to better serve Glen Echo Park. In its advertisements, the NPS will publicize all available transit options and highly encourage all park users to use them every time they come to the park.

In addition to working to improve transit service and awareness, the NPS will further implement Transportation Demand Management (TDM) strategies that encourage visitors to use other alternative forms of transportation, such as walking, bicycles, carpooling, and ridesharing.

During prime events, parking areas within the park will be reserved for visitors who carpool or arrive with four or more people per vehicle. During events, visitors who cannot use transit or carpool will be highly encouraged to use a remote parking lot and ride a shuttle to the park. In addition, the NPS will work to improve advance notice to motorists regarding the traffic and parking conditions associated with major events and highly attended dances. This will reduce the need for motorists to search for a parking space, thereby reducing traffic.

When event information is distributed in advance of an event, the above transit and TDM information will be included in the materials.

• Parking: During special events, to prevent parking and congestion on residential streets, the NPS will place temporary signs and barricades at entrances to residential streets in the vicinity of the park. This is similar to what is done on the Town of Glen Echo streets to help reduce parking impacts on these streets.

• During special events the NPS will also enforce existing parking restrictions along MacArthur Boulevard to prohibit roadside parking and direct all off-site parking to the remote parking area(s). One such area that the NPS is pursuing for additional use for this purpose is the National Imagery and Mapping Agency parking area on Sangamore Road. This parking area has historically been utilized for the Folk Festival, through arrangements made by the Washington Folklore Society.

D. Utilities

Stormwater: Future construction projects not addressed in the FMP/EIS will require appropriate environmental compliance procedures and documentation.

Water/Sanitary Sewer: NPS will consult with Montgomery County regarding any proposed modifications to service lines in the park.

• Solid Waste: The NPS will encourage the park's recycling program, work with concessionaires to reduce packaging and waste, and work with cooperators to reduce solid waste generation.

IX. Public and Interagency Involvement

There has been extensive public and interagency involvement throughout the development of the Draft and Final MP/EIS for Glen Echo. The initial five alternatives were presented to the public during a scoping meeting held on February 3, 1998, at Clara Barton Community Center. Press releases were sent to all of the local and metropolitan newspapers regarding the scoping meeting, and a Federal Register Notice was issued on January 15, 1998, for the February 3 meeting. In addition, two newsletters were prepared by the park in January and March 1998 and sent to 3,000 individuals and organizations listed on the mailing list. The purpose of the public scoping meeting was to solicit comments on the five proposed scenarios and to inform the public about the planning process for the MP/EIS for Glen Echo Park. Approximately 600 people attended the February 3rd meeting. In addition, the NPS received more than 1,000 written comments following the meeting. Due to the overwhelming response to the public scoping meeting and at the request of a Congressional Representative, the NPS decided that the comment period would be extended from March 3, 1998 (the standard 30 day period) to September 1, 1998. Extending the comment period would allow various groups and individuals to carefully review the five proposed management scenarios and to present additional scenarios for future consideration.

The enormous response to the public scoping meeting prompted Montgomery County Executive Douglas Duncan to convene a working group. The working group was comprised of representatives from a range of interests in the park including park users, the artist cooperators, the State of Maryland, Montgomery County, congressional staff members, and the NPS (as an information resource). The charge of this group was to explore and then make recommendations regarding a possible role for the County in the future management of Glen Echo Park.

County Executive Duncan held public meetings in March and August 1998 at Pyle Middle School in Bethesda, Maryland, to discuss a proposal that the County would submit to the NPS under the Public Partnership for the MP. Several hundred people attended each meeting. The County government offices publicized these meetings on the radio, through the Internet, and in local newspapers and fliers.

In August 1998, Executive Duncan presented the NPS with a proposed management scenario that recommended a partnership between Montgomery County and the NPS to rehabilitate and manage Glen Echo Park. The State of Maryland was identified as a partner to provide financial assistance for the rehabilitation efforts. These proposals called for the creation of a non-profit entity that would be charged with managing the day-to-day operations of the park as well as undertaking fundraising efforts to financially support park needs. A second public meeting was called by Montgomery County and held on August 3, 1998 with over 100 people in attendance. At this meeting, the “Duncan Proposal” was presented to the public for review and comment.

To foster additional public participation, the Draft MP/EIS was available for 60 days to the public and reviewing agencies. Notice of its availability was published August 15, 2000, and in the Federal Register, in local and regional newspapers, and on the World Wide Web. In addition, approximately 4,000 individuals and organizations were notified by mail. On September 7, 2000, the NPS also held a final public meeting on the Draft MP/EIS. Written comments on the Draft MP/EIS were received from a variety of public agencies, organizations, and individuals during the 60-day public review period that began August 15, 2000, and ended October 13, 2000. Oral comments on the Draft MP/EIS were received and transcribed during a public meeting held September 7, 2000, at the Glen Echo Park Spanish Ballroom. All comments received or postmarked within the review period were reviewed and all relevant comments were addressed in the Final MP/EIS.

The Final MP/EIS was published on March 9, 2001. It was distributed to applicable review agencies, organizations and interested citizens. In addition, it was available at local libraries and on the Internet at http:www.nps.gov/glec.

X. Conclusion

The Modified Public Partnership Alternative provides the most comprehensive and effective method among the alternatives considered for meeting the National Park Service's purposes, goals, and criteria for managing Glen Echo Park and for meeting national environmental policy goals. The selection of the Modified Public Partnership Alternative, as reflected in the analysis contained in the environmental impact statement, would not result in the impairment of park resources and would allow the National Park Service to conserve park resources and provide for their enjoyment by visitors.

BILLING CODE 4310-70-P

Dated: April 25, 2001.
Terry R. Carlstrom,
Regional Director, National Capital Region.

[FR Doc. 01-13429 Filed 5-25-01; 8:45 am]

BILLING CODE 4310-70-C